DEPARTMENT OF ENERGY

Federal Energy Regulatory Commission

[Docket No. EG03-84-000, et al.]

Conectiv Delmarva Generation, Inc., et al.; Electric Rate and Corporate Filings

August 14, 2003.

The following filings have been made with the Commission. The filings are listed in ascending order within each docket classification.

1. Conectiv Delmarva Generation, Inc.

[Docket No. EG03-84-000]

Take notice that on August 5, 2003, Conectiv Delmarva Generation, Inc. (CDG) filed an amendment to Paragraph 6 of its July 24, 2003 Application for Determination of Exempt Wholesale Generator Status in the above-captioned proceeding.

CDG states that it has served this filing on the Maryland Public Service Commission, the Delaware Public Service Commission, the New Jersey Board of Public Utilities, the Virginia State Corporation Commission, the District of Columbia Public Service Commission and the Securities and Exchange Commission.

Comment Date: September 4, 2003.

2. Conectiv Atlantic Generation, L.L.C.

[Docket No. EG03-85-000]

Take notice that on August 5, 2003, Conectiv Atlantic Generation, L.L.C. (CAG) filed an amendment to Paragraph 6 of its July 24, 2003 Application for Determination of Exempt Wholesale Generator Status in the above-captioned proceeding.

CAG states that it has served this filing on the Maryland Public Service Commission, the Delaware Public Service Commission, the New Jersey Board of Public Utilities, the Virginia State Corporation Commission, the District of Columbia Public Service Commission and the Securities and Exchange Commission.

Comment Date: September 4, 2003.

3. San Marco Bioenergia S.p.A.

[Docket No. EG03-88-000]

Take notice that on August 8, 2003, San Marco Bioenergia S.p.A. (San Marco) with its principal office at Via G. de Castro 4, 20144 Milano, Italy, filed with the Federal Energy Regulatory Commission (Commission) an application for determination of exempt wholesale generator status pursuant to part 365 of the Commission's regulations.

San Marco states that it is a company organized under the laws of Italy. San Marco further states that it will be engaged, directly or indirectly through an affiliate as defined in Section 2(a)(11)(B) of the Public Utility Holding Company Act of 1935, exclusively in owning, or both owning and operating an electric generating facility consisting of a 20 MW Power Plant in Italy, selling electric energy at wholesale and engaging in project development activities with respect thereto.

Comment Date: September 4, 2003.

4. Stonycreek WindPower LLC

[Docket No. EG03-89-000]

Take notice that on August 8, 2003, Stonycreek WindPower LLC (Applicant) filed with the Federal Energy Regulatory Commission (Commission) an Application for Determination of Exempt Wholesale Generator Status pursuant to part 365 of the Commission's regulations.

Applicant states that it is developing a wind-powered eligible facility with a capacity of 72 megawatts, which will be located in Somerset County, Pennsylvania.

Comment Date: September 4, 2003.

5. PJM Interconnection, L.L.C.

[Docket No. EL01-122-006]

Take notice that on August 7, 2003, PJM Interconnection, L.L.C. (PJM) tendered for filing with the Federal Energy Regulatory Commission (Commission), minor revisions to Attachment M of the PJM Open Access Transmission Tariff which is in compliance with the Commission's July 2, 2003 order (104 FERC ] 61,020).

PJM states that copies of this filing have been served on all PJM members and utility regulatory commissions in the PJM region and on all parties listed on the official service list in the above-captioned proceeding.

Comment Date: August 26, 2003.

1. Central Iowa Power Cooperative; Clarke Electric Cooperative, Inc.; Consumers Energy Cooperative; East-Central Iowa Rural Electric Cooperative; Eastern Iowa Light & Power Cooperative; Farmers Electric Cooperative, Inc.; Guthrie County Rural Electric Cooperative Association; Maquoketa Valley Electric Cooperative; Midland Power Cooperative; Pella Cooperative Electric Association; Rideta Electric Cooperative, Inc.; South Iowa Municipal Electric Cooperative; Association; Southwest Iowa Service Cooperative; T.I.P. Rural Electric Cooperative

[Docket No. EL03-219-000]

Take notice that on August 8, 2003, the above-named non-regulated utilities have filed with the Federal Energy Regulatory Commission (Commission) a joint PURPA implementation plan pursuant to Section 292.402 of the Commission's regulations, for waiver of certain obligations imposed on these applicant utilities under Sections 292.303(a) and 292.303(b) of the Commission's regulations which implement Section 210 of the Public Utility Regulatory Policies Act of 1978.

Comment Date: September 8, 2003.

7. Otter Tail Corporation

[Docket No. ER00-3080-001]

Take notice that on August 11, 2003, Otter Tail Corporation, formerly known as Otter Tail Power Company (Otter Tail) filed an updated market analysis as required by the Commission's August 11, 2000 Order in Docket ER00-3080-000 granting Otter Tail market-based rate authority.

Comment Date: September 2, 2003.

8. Panda Gila River, L.P.

[Docket No. ER01-931-002]

Take notice that on August 6, 2003, Panda Gila River, L.P. filed with the Federal Energy Regulatory Commission a notice of change in status in connection with the transfer by Panda GS V, LLC and Panda GS VI, LLC of their respective interests in TECO-PANDA Generating Company, L.P. to TPS GP, Inc. and TPS LP, Inc.

Comment Date: August 27, 2003.

9. Occidental Power Services, Inc.

[Docket No. ER02-1947-004]

Take notice that on August 6, 2003, Occidental Power Services, Inc., (OPSI) filed a Notice of Change in Status in regard to the Asset Management Agreement with Elk Hills Power L.L.C.

Comment Date: August 27, 2003.

10. Sierra Pacific Power Company

[Docket Nos. ER03-37-004 and ER02-2609-004]

Take notice that on August 8, 2003, Sierra Pacific Power Company submitting a refund report in compliance with the Commission Order issued July 1, 2003 in Docket Nos. ER03-37-000 and ER02-2609-000.

Comment Date: August 29, 2003.

11. Idaho Power Company

[Docket No. ER03-488-004]

Take notice that on August 5, 2003, Idaho Power Company (Idaho Power) tendered for filing Second Revised Service Agreement No. 153, Second Revised Service Agreement No. 155, and Second Revised Service Agreement No. 156, under FERC Electric Tariff First Revised Volume No. 5 for Network Integration Transmission Service between Idaho Power and Bonneville Power Administration. Idaho Power seeks an effective date of January 1, 2003.

Comment Date: August 26, 2003.

12. Devon Power LLC, Middletown Power LLC, Montville Power LLC Norwalk Power LLC and NRG Power Marketing Inc.

[Docket No. ER03-563-013]

Take notice that on August 5, 2003, Devon Power LLC, Middletown Power LLC, Montville Power LLC, Norwalk Power LLC (collectively Applicants) and NRG Power Marketing Inc., on May 28, 2003, tendered for filing in compliance with the Commission's Order, issued July 24, 2003 (July 24 Order) 104 FERC § 61,123, Third Revised Cost of Service Agreements (COS Agreements) among each of the Applicants, NRG Power Marketing Inc, as agent for each Applicant, and ISO New England Inc., and changes to Applicants' cost-of-service to reflect rate adjustments determined by the July 24 Order and supporting documents.

Applicants state that they have served a copy of its filing on ISO New England, Inc. and each person designated on the official service list in Docket No. ER03-563..

Comment Date: August 26, 2003.

13. Southern Company Services, Inc.

[Docket No. ER03-872-001]

Take notice that on August 11, 2003, Southern Company Services, Inc., (SCS), acting on behalf of Georgia Power Company (GPC), filed additional material relating to supplement their May 23, 2003 filing of an Interconnection Agreement between Southern Power Company and Georgia Power. The additional material was submitted in response to the Commission's Letter Order issued July 10, 2003 in Docket No. ER03-872-000.

Comment Date: September 2, 2003.

14. New York Independent System Operator, Inc.

[Docket No. ER03-873-001]

Take notice that on August 6, 2003, the New York Independent System Operator, Inc. (NYISO) tendered for filing a compliance filing in connection with the Commission's July 22, 2003, order in Docket No. ER03-873-000.

The NYISO states it has served a copy of this filing to all parties listed on the official service list. The NYISO also states it has served a copy of this filing on all parties that have executed Service Agreements under the NYISO's Open-Access Transmission Tariff or Services Tariff, the New York State Public Service Commission and to the electric utility regulatory agencies in New Jersey and Pennsylvania.

Comment Date: August 27, 2003.

15. PPL Montana LLC

[Docket ER03-1133-001]

Take notice that on August 6, 2003, PPL Montana LLC (PPL), tendered for filing a supplement to its July 30, 2003 filing of Rate Schedule No. 13. PPL states that the supplemental filing contains a complete set of attachments to replace the attachments to the July 30, 2003 filing.

PPL Montana LLC states that copies of this filing have been served on all PNCA parties.

Comment Date: August 27, 2003.

16. Carolina Power & Light Company

[Docket No. ER03-1156-001]

Take notice that on August 8, 2003, Carolina Power & Light Company, d/b/a Progress Energy Carolinas, Inc., (CPL) filed Substitute Tariff Sheets for Rate Schedule No. 121, originally filed on August 4, 2003. CPL states that the substitute tariff sheets correct typographical errors and minor omissions in the August 4, 2003 filing.

Carolina Power & Light Company states that copies of the filing were served on the original list of recipients in the August 4, 2003 filing.

Comment Date: August 29, 2003.

17. Direct Commodities Trading, Inc.

[Docket No. ER03-1162-000]

Take notice that on August 5, 2003, Direct Commodities Trading, Inc (DCT) petitioned the Commission for acceptance of DCT Rate Schedule FERC No. 1; the granting of certain blanket approvals, including the authority to sell electricity at market-based rates; and the waiver of certain Commission regulations.

DCT states that it intends to engage in wholesale electric power and energy purchases and sales as a marketer. DCT states that it is not in the business of generating or transmitting electric power. DCT also states that it is an independent private corporation, has no affiliates and is not a subsidiary or parent of any other entity.

Comment Date: August 26, 2003.

18. Energy Cooperative Association of Pennsylvania

[Docket No. ER03-1165-000]

Take notice that on August 6, 2003, Energy Cooperative Association of Pennsylvania (ECAP) petitioned the Commission for acceptance of ECAP Rate Schedule FERC No. 1; the granting of certain blanket approvals, including the authority to sell electricity at market-based rates; and the waiver of certain Commission regulations.

ECAP states that it intends to engage in wholesale electric power and energy purchases and sales as a marketer. ECAP further states it is not in the business of generating or transmitting electric power and that it is not affiliated with any other organization

Comment Date: August 27, 2003.

19. Avista Corporation

[Docket No. ER03-1166-000]

Take notice that on August 6, 2003, Avista Corporation (Avista) tendered for filing revisions to its 18th Revised FERC Rate Schedule No. 105, the General Transfer Agreement between Avista and the Bonneville Power Administration. Avista states that the revisions to the rate schedule consist of changes to data in exhibits to the General Transfer Agreement to reflect changes in transmission facilities and Bonneville Power Administration's customers and correct certain clerical errors in the effective date. Avista requests an effective date for the changes of October 1, 2003.

Avista states that a copy of this filing was served upon the Bonneville Administration, the counterparty to the General Transfer Agreement.

Comment Date: August 27, 2003.

20. PJM Interconnection, L.L.C.

[Docket No. ER03-1167-000]

Take notice that on August 6, 2003, PJM Interconnection, L.L.C. (PJM), submitted for filing an interconnection service agreement (ISA) among PJM, DuPont Textiles and Interiors, Inc., and Delmarva Power & Light Company d/b/a Conectiv Power Delivery and a notice of cancellation of an Interim ISA that has been superseded.

PJM requests a waiver of the Commission's 60-day notice requirement to permit a July 17, 2003 effective date for the ISA. PJM states that copies of this filing were served upon the parties to the agreement and the state regulatory commissions within the PJM region.

Comment Date: August 27, 2003.

21. PJM Interconnection, L.L.C.

[Docket No. ER03-1168-000]

Take notice that on August 6, 2003, PJM Interconnection, L.L.C. (PJM), submitted for filing an interconnection service agreement (ISA) among PJM, U.S. General Service Administration, Heating Operation and Transmission District, and Potomac Electric Power Company.

PJM requests a waiver of the Commission's 60-day notice requirement to permit a July 14, 2003 effective date for the ISA. PJM states that copies of this filing were served upon the parties to the agreement and the state regulatory commissions within the PJM region.

Comment Date: August 27, 2003.

22. PJM Interconnection, L.L.C.

[Docket No. ER03-1169-000]

Take notice that on August 6, 2003, PJM Interconnection, L.L.C. (PJM), submitted for filing an interconnection service agreement (ISA) among PJM, Bethesda Triangle LLC, and Potomac Electric Power Company.

PJM requests a waiver of the Commission's 60-day notice requirement to permit a July 29, 2003 effective date for the ISA. PJM states that copies of this filing were served upon the parties to the agreement and the state regulatory commissions within the PJM region.

Comment Date: August 27, 2003.

23. Entegra North America, L.P.

[Docket No. ER03-1170-000]

Take notice that on August 6, 2003, Entegra North America, L.P. (Entegra) petitioned the Commission for acceptance of Entegra Rate Schedule FERC No. 1; the granting of certain blanket approvals, including the authority to sell electricity at market-based rates; and the waiver of certain Commission regulations.

Entegra states that it intends to engage in wholesale electric power and energy purchases and sales as a marketer. Entegra also states that it is not in the business of generating or transmitting electric power.

Comment Date: August 27, 2003.

24. Deseret Generation & Transmission Co-operative, Inc.

[Docket No. ER03-1171-000]

Take notice that on August 6, 2003, Deseret Generation & Transmission Co-operative, Inc. (Deseret) tendered an informational filing in compliance with Service Agreements on file with the Commission. Deseret states that the filing sets forth the revised approved costs for member-owned generation resources and the revised approved reimbursements under its Resource Integration Agreements with two of its members, Garkane Power Association, Inc. and Moon Lake Electric Association, Inc.

Deseret states that a copy of this filing has been served upon all of Deseret's members.

Comment Date: August 27, 2003.

25. Midwest Energy, Inc.

[Docket No. ER03-1172-000]

Take notice that on August 6, 2003, Midwest Energy, Inc. (Midwest) submitted for filing an amendment to FERC Rate Schedule No. 19, superseding Westar Energy, Inc. First Revised FERC No. 264, Transmission Service Contract between Midwest and Kansas Electric Power Cooperative, Inc., (KEPCo).

Midwest states that a copy of this filing was served upon the Kansas Corporation Commission and KEPCo.

Comment Date: August 27, 2003.

26. Nicole Energy Marketing, Inc.

[Docket No. ER03-1179-000]

Take notice that on August 8, 2003, Nicole Energy Marketing, Inc., submitted for filing a Notice of Cancellation of the Market-based Rate Authority for Nicole Energy Marketing of Illinois, Inc., issued in Docket No. ER00-3637-000. Nicole Energy Marketing of Illinois, Inc., states it is no longer in business.

Comment Date: August 29, 2003.

27. Nicole Energy Services, Inc.

[Docket No. ER03-1180-000]

Take notice that on August 8, 2003, Nicole Energy Services, Inc., submitted for filing a Notice of Cancellation of the Market-based Rate Authority for Nicole Energy Services, Inc., issued in Docket No. ER98-2683-000. Nicole Energy Services, Inc. states that it is dissolved and will not be doing any business.

Comment Date: August 29, 2003.

28. New England Power Pool

[Docket No. ER03-1181-000]

Take notice that on August 8, 2003, the New England Power Pool (NEPOOL) Participants Committee submitted a filing pursuant to Section 203 of the Federal Power Act requesting acceptance of Amendment No. 4 (Amendment) to the Interim Independent System Operator Agreement (ISO Agreement) dated July 1, 1997 between ISO New England Inc. (ISO) and the NEPOOL Participants. NEPOOL states that the Amendment is solely to extend the term of the ISO Agreement by up to one year, to December 31, 2004. NEPOOL has requested that the Commission issue an order approving the Amendment on or before October 7, 2003.

NEPOOL Participants Committee states that copies of these materials were sent to the New England state governors and regulatory commissions and the Participants in NEPOOL.

Comment Date: August 29, 2003.

29. Tyr Energy, LLC

[Docket No. ER03-1182-000]

Take notice that on August 7, 2003, Tyr Energy, LLC tendered for filing a request for acceptance of Tyr Energy, LLC's FERC Rate Schedule No. 1; the granting of certain blanket approvals, including the authority to sell electricity at market-based rates; and the waiver of certain Commission regulations.

Tyr Energy, LLC states that it intends to engage in wholesale electric power and energy purchases and sales as a marketer. Tyr Energy, LLC also states that it is not in the business of generating or transmitting electric power.

Comment Date: August 28, 2003.

30. White River Electric Association, Inc.

[Docket No. ER03-1184-000]

Take notice that on August 8, 2003, White River Electric Association, Inc. (White River) filed a rate schedule and a service agreement for the provision of emergency service to Moon Lake Electric Association, Inc., pursuant to Section 205 of the Federal Power Act (FPA), 16 U.S.C. 824d and 35.12 of the Federal Energy Regulatory Commission's (Commission) Regulations. White River requests that the Commission grant all waivers necessary to allow the rate schedule to have an effective date of October 26, 1999. White River states that its filing is available for public inspection at its offices in Meeker, Colorado.

White River states that a copy of the filing was served upon Moon Lake Electric Association Inc. and the Colorado Public Utilities Commission.

Comment Date: August 29, 2003.

31. Commonwealth Edison Company

[Docket No. ER03-1196-000]

Take notice that on August 8, 2003, Commonwealth Edison Company (ComEd) tendered for filing with the Federal Energy Regulatory Commission (Commission) an executed Dynamic Scheduling Agreement (DSA) entered into between ComEd and Wisconsin Electric Power Company (Wisconsin Electric) under ComEd's Open Access Transmission Tariff. ComEd states that the executed DSA replaces the unexecuted DSA filed in connection with seven Service Agreements which were previously accepted for filing. ComEd requests effective dates of June 1, 2003 and June 1, 2004 for the respective Service Agreements and associated DSA.

ComEd states that copies of the filing were served upon Wisconsin Electric, the Illinois Commerce Commission and Wisconsin Public Service Commission.

Comment Date: August 29, 2003.

Standard Paragraph

Any person desiring to intervene or to protest this filing should file with the Federal energy Regulatory Commission, 888 First Street, NE., Washington, DC 20426, in accordance with Rules 211 and 214 of the Commission's Rules of Practice and Procedure (18 CFR 385.211 and385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866)208-3676, or for TTY, contact (202)502-8659. Protests and interventions may be filed electronically via the Commission's Web site under the “e-Filing” link. The Commission strongly encourages electronic filings.

Magalie R. Salas,
Secretary.

[FR Doc. 03-22590 Filed 9-2-03; 8:45 am]

BILLING CODE 6717-01-P